ENVIRONMENTAL PROTECTION AGENCY

[Petition IV-2008-4b; FRL-9094-4]

Clean Air Act Operating Permit Program; Petition for Objection to State Operating Permit for East Kentucky Power Cooperative, Inc.—Hugh L. Spurlock Generating Station; Maysville (Mason County), KY

AGENCY: Environmental Protection Agency (EPA).

ACTION: Notice of final order on petition to object to a state operating permit.

SUMMARY: Pursuant to Clean Air Act (CAA) Section 505(b)(2) and 40 CFR 70.8(d), the EPA Administrator signed an Order, dated November 30, 2009, both granting and denying, in part, a petition to object to a merged prevention of significant deterioration (PSD) and state operating permit issued by the Kentucky Division for Air Quality (KDAQ) to East Kentucky Power Cooperative, Inc. (EKPC) for its Hugh L. Spurlock Generating Station located in Maysville, Mason County, Kentucky. This Order constitutes a final action on the remaining two issues raised in the petition submitted by Sierra Club (Petitioner) on April 28, 2008. Pursuant to section 505(b)(2) of the CAA, any person may seek judicial review of the Order in the United States Court of Appeals for the appropriate circuit within 60 days of this notice under section 307(b) of the Act.

ADDRESSES: Copies of the Order, the petition, and all pertinent information relating thereto are on file at the following location: EPA Region 4, Air, Pesticides and Toxics Management Division, 61 Forsyth Street, SW., Atlanta, Georgia 30303-8960. The Order is also available electronically at the following address: http://www.epa.gov/region07/programs/artd/air/title5/petitiondb/petitions/spurlock_2nd_response2008.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioner submitted a petition regarding the EKPC Spurlock Generating Station on April 28, 2008, requesting that EPA object to Revision 2 to the EKPC merged PSD and title V operating permit. Pursuant to a proposed Consent Decree, EPA agreed to address the issue regarding the lack of hazardous air pollutant emission limits under section 112(g) of the CAA in an order that was issued on September 21, 2009. The remaining two issues are addressed in this Order. The issues are: (1) The permit revision proposed by KDAQ fails to include the required heat input limit applicable to Unit 2 and unlawfully attempts to increase that limit without going through PSD (or any other CAA title I) permitting and (2) KDAQ's review of low-sulfur coal was not adequate.

On November 30, 2009, the Administrator issued an Order both granting and denying, in part, the petition with respect to the remaining two issues. The Order explains EPA's rationale for granting the petition with respect to issue 2 and denying the petition with respect to issue 1.

Dated: December 11, 2009.
Beverly H. Banister,
Acting Regional Administrator, Region IV.

[FR Doc. E9-30401 Filed 12-21-09; 8:45 am]

BILLING CODE 6560-50-P